DEPARTMENT OF LABOR

Employment and Training Administration

Workforce Investment Act; Native American Employment and Training Council

AGENCY: Employment and Training Administration, Labor.

ACTION: Notice of meeting.

SUMMARY: Pursuant to section 10(a)(2) of the Federal Advisory Committee Act (FACA) (Pub. L. 92-463), as amended, and section 166(h)(4) of the Workforce Investment Act (WIA) [29 U.S.C. 2911(h)(4)], notice is hereby given of the next meeting of the Native American Employment and Training Council as constituted under WIA.

Time and Date: The meeting will begin at 9 a.m. EST (Eastern Standard Time) on Thursday, March 25, 2004, and continue until 5 p.m. EST that day. The meeting will reconvene at 9 a.m. EST on Friday, March 26, 2004, and continue until approximately 3 p.m. EST on that day. The period from 3 p.m. to 5 p.m. EST on March 25 will be reserved for participation and presentation by members of the public. The meeting will reconvene on Friday, March 26, 2004, and adjourn at approximately 3 p.m. EST on that day.

Place: All sessions will be held at the Grand Hyatt Washington Center, Constitution Room (D, E, & F), 1000 H Street, NW., Washington, DC 20001.

Status: The meeting will be open to the public. Persons who need special accommodations should contact Ms. Brown on (202) 693-3737 by March 20, 2004.

Matters To Be Considered: The formal agenda will focus on the following topics: (1) Designation of WIA section 166 grantees for Program Years 2004-2005; (2) implementation of 2000 Decennial Census data in the section 166 funding formula(s); (3) other Council workgroup reports, especially the reports and performance standards workgroup; (4) status of the Council report to the Department and Congress; (5) status of the Technical Assistance and Training Initiative, including plans for future support of poor performing grantees; and, time permitting, (6) status of Welfare Reform and WIA reauthorization legislation.

FOR FURTHER INFORMATION CONTACT: Ms. Athena Brown, Acting Chief, Division of Indian and Native American Programs, Office of National Programs, Employment and Training Administration, U.S. Department of Labor, Room S-4203, 200 Constitution Avenue, NW., Washington, DC 20210.

Telelphone: (202) 693-3737 (VOICE) (this is not a toll-free number) or 1-800-877-8339 (TTY) or speech-to-speech at 1-877-877-8982 (these are toll-free numbers).

Signed at Washington, DC, this 4th day of March, 2004.
Emily Stover DeRocco,
Assistant Secretary, Employment and Training Administration.

[FR Doc. 04-5439 Filed 3-10-04; 8:45 am]

BILLING CODE 4510-30-P